DEPARTMENT OF AGRICULTURE

Rural Housing Service

Rural Business-Cooperative Service

Farm Service Agency

Notice of Request for Extension of a Currently Approved Information Collection

AGENCIES: Rural Housing Service, Rural Business-Cooperative Service, Farm Service Agency, USDA.

ACTION: Proposed collection; comments requested.

SUMMARY: In accordance with the Paperwork Reduction Act of 1995, this notice announces the intention of USDA Farm Service Agency (FSA) and Rural Development, henceforth collectively known as Rural Development, or individually as Housing and Community Programs, Business and Cooperative Programs, Utility Programs, to request an extension for a currently approved information collection in support of compliance with the National Environmental Policy Act (NEPA) and other applicable environmental requirements.

DATES: Comments on this notice must be received by July 24, 2006 to be assured of consideration.

FOR FURTHER INFORMATION CONTACT: Donna Meyer, Senior Environmental Protection Specialist, Program Support Staff, Housing and Community Facilities Programs, U.S. Department of Agriculture, Stop 0761, 1400 Independence Ave., SW., Washington, DC 20250-0761, Telephone (202) 720-9619, e-mail: donna.meyer@wdc.usda.gov.

SUPPLEMENTARY INFORMATION: Title: 7 CFR 1940 Subpart G, “Environmental Program.”

OMB Number: 0575-0094.

Expiration Date of Approval: November 30, 2006.

Type of Request: Extension of a currently approved information collection.

Abstract: The information collection under OMB Number 0575-0094 enables the Agencies to effectively administer the policies, methods, and responsibilities for compliance with the NEPA and other applicable environmental laws, executive orders, and regulations.

The NEPA requires Federal agencies to consider the potential environmental impacts of proposed major Federal actions on the quality of the human environment during agency planning and decision-making processes. For Rural Development and FSA to comply, it is necessary that they have information on the types of environmental resources on site or in the vicinity of an Applicant's proposed project that could be impacted by Rural Development or FSA's Federal action. The Applicant is the logical source for providing this information. In fact, the vast majority of Federal Agencies that assist non-Federal Applicants in sponsoring projects require their Applicants to submit such environmental data to allow the agency to make an informed decision.

Both Rural Development and FSA provide forms and/or other guidance to assist in the collection and submission of necessary information. The information is usually submitted via U.S. Postal Service or hand delivery to the appropriate Agency office.

The information is used by the Agency official who is processing the application for financial assistance or request for approval. Having environmental information on the Applicant's proposed project and the construction and operation activities enables the Agency official to determine the magnitude of any potential environmental impacts and to take such impacts into consideration during planning and decision-making as required by NEPA. The analysis of potential environmental impacts of an Applicant's proposed project and Rural Development or FSA's decision is a full disclosure process, and therefore, can involve public information meetings and public notification.

Estimate of Burden: Public reporting burden for this collection of information is estimated to average 4.3 hours per response.

Respondents: Individuals, non-Federal agency governments, farmers, ranchers, business owners, for-profit or non-profit institutions, and organizations.

Estimated Number of Respondents: 6,308.

Estimated Number of Responses per Respondent: 1.

Estimated Number of Responses: 6,328.

Estimated Total Annual Burden on Respondents: 27,399 hours.*

(* Note: This estimate is not exact due to rounding).

Copies of this information collection can be obtained from Renita Bolden, Regulations and Paperwork Management Branch, at (202) 692-0035.

Comments

Comments are invited on: (a) Whether the proposed collection of information is necessary for the proper performance of the functions of the Agencies, including whether the information will have practical utility; (b) the accuracy of Agencies' estimate of the burden of the proposed collection of information including the validity of the methodology and assumptions used; (c) ways to enhance the quality, utility and clarity of the information to be collected; and (d) ways to minimize the burden of the collection of information on those who are to respond, including through the use of appropriate automated, electronic, mechanical, or other technological collection techniques or other forms of information technology.

Comments may be sent to Renita Bolden, Regulations and Paperwork Management Branch, Support Services Division, U.S. Department of Agriculture, Rural Development, STOP 0742, 1400 Independence Ave., SW., Washington, DC 20250-0742. All responses to this notice will be summarized and included in the request for OMB approval. All comments will also become a matter of public record.

Dated: May 9, 2006.
Russell T. Davis,
Administrator, Rural Housing Service.
Dated: May 5, 2006.
Jackie J. Gleason,
Acting Administrator, Rural Business-Cooperative Service.
Dated: May 12, 2006.
Teresa C. Lasseter,
Administrator, Farm Service Agency.

[FR Doc. 06-4744 Filed 5-22-06; 8:45 am]

BILLING CODE 3410-XV-P